DEPARTMENT OF THE INTERIOR

Fish and Wildlife Service

Issuance of Permit for Marine Mammals

AGENCY: Fish and Wildlife Service, Interior.

ACTION: Notice of issuance of permit for marine mammals.

SUMMARY: The following permits were issued.

ADDRESSES: Documents and other information submitted for these applications are available for review by any party who submits a written request to the U.S. Fish and Wildlife Service, Division of Management Authority, 4401 North Fairfax Drive, Room 700, Arlington, Virginia 22203; fax (703) 358-2281.

FOR FURTHER INFORMATION CONTACT: Division of Management Authority, telephone 703/358-2104.

SUPPLEMENTARY INFORMATION: On September 10, 2002, a notice was published in the Federal Register (67 FR 57445), that an application had been filed with the Fish and Wildlife Service by Hobson Reynolds for a permit (PRT-061098) to import one polar bear (Ursus maritimus) taken from the Lancaster Sound polar bear population, Canada, for personal use.

Notice is hereby given that on November 6, 2002, as authorized by the provisions of the Marine Mammal Protection Act of 1972, as amended (16 U.S.C. 1361 et seq.) the Fish and Wildlife Service issued the requested permit subject to certain conditions set forth therein.

On August 20, 2002, a notice was published in the Federal Register (67 FR 53960), that an application had been filed with the Fish and Wildlife Service by Lawrence P. Rudolph for a permit (PRT-058229) to import one polar bear (Ursus maritimus) taken from the Viscount Melville Sound polar bear population, Canada, for personal use.

Notice is hereby given that on November 4, 2002, as authorized by the provisions of the Marine Mammal Protection Act of 1972, as amended (16 U.S.C. 1361 et seq.) the Fish and Wildlife Service issued the requested permit subject to certain conditions set forth therein.

Dated: November 8, 2002.
Lisa J. Lierheimer,
Permits Policy Specialist, Branch of Permits, Division of Management Authority.

[FR Doc. 02-30127 Filed 11-26-02; 8:45 am]

BILLING CODE 4310-55-P